ENVIRONMENTAL PROTECTION AGENCY

[EPA-HQ-OA-2014-0001; FRL 9909-96-OA]

Good Neighbor Environmental Board; Notification of Public Advisory Committee Meeting

AGENCY: Environmental Protection Agency (EPA).

ACTION: Notice of public advisory committee meeting.

SUMMARY: Pursuant to the Federal Advisory Committee Act, Public Law 92-463, notice is hereby given that the Good Neighbor Environmental Board will hold a public meeting on Thursday, May 8 and Friday, May 9, 2014 in El Paso, TX. The meeting is open to the public.

DATES: The Good Neighbor Environmental Board will hold an open meeting on Thursday, May 8, from 8:30 a.m. (registration at 8:00 a.m.) to 6:00 p.m. The following day, Friday, May 9, the Board will meet from 8:00 a.m. until 2:00 p.m.

ADDRESSES: The meeting will be held in El Paso, Texas. The location of the meeting can be found on the Board's Web site at www.epa.gov/ofacmo/gneb. The meeting is open to the public, with limited seating on a first-come, first-serve basis.

SUPPLEMENTARY INFORMATION:

Background: The Good Neighbor Environmental Board (Board) is a federal advisory committee chartered under the Federal Advisory Committee Act, PL 92463. By statute, the Board is required to submit an annual report to the President and Congress on environmental and infrastructure issues along the U.S. border with Mexico.

Purpose of Meeting: The purpose of this meeting is to continue discussion of the Good Neighbor Environmental Board's Sixteenth Report, which will focus on ecological restoration in the U.S.-Mexico border region.

General Information: The agenda and meeting materials will be available at http://www.regulations.gov under Docket ID: EPA-HQ-OA-2014-0001. General information about the Board can be found on its Web site at www.epa.gov/ofacmo/gneb.

If you wish to make oral comments or submit written comments to the Board, please contact Ann-Marie Gantner at least five days prior to the meeting. Written comments should be submitted at http://www.regulations.gov under Docket ID: EPA-HQ-OA-2014-0001.

Meeting Access: For information on access or services for individuals with disabilities, please contact Ann-Marie Gantner at (202) 564-4330 or email at gantner.ann-marie@epa.gov. To request accommodation of a disability, please contact Ann-Marie Gantner at least 10 days prior to the meeting to give EPA as much time as possible to process your request.

Dated: April 17, 2014.
Ann-Marie Gantner,
Acting Designated Federal Officer.

[FR Doc. 2014-09326 Filed 4-23-14; 8:45 am]

BILLING CODE 6560-50-P